DEPARTMENT OF THE TREASURY

[TREAS-DO-2022-0004]

Agency Information Collection Activities; Proposed Collection; Comment Request; Prohibition on Funding of Unlawful internet Gambling

AGENCY: Departmental Offices, Department of the Treasury.

ACTION: Notice, request for comment.

SUMMARY: The Department of the Treasury, as part of its continuing effort to reduce paperwork and respondent burden, invites the general public and other federal agencies to comment on the proposed information collection listed below, in accordance with the Paperwork Reduction Act of 1995.

DATES: Comments must be received on or before April 25, 2022.

ADDRESSES: Send comments regarding the burden estimate, or any other aspect of the information collection, including suggestions for reducing the burden, online using https://www.regulations.gov (our preferred method). Search for Docket ID No. TREAS-DO-2022-0004 and follow the instructions for commenting. Alternatively, comments may be sent by email to PRA@treasury.gov. Please include reference to the OMB Control No. 1505-0204 and Docket ID No. TREAS-DO-2022-0004 in your comment.

FOR FURTHER INFORMATION CONTACT: A copy of the PRA OMB submission, including the proposed reporting form and instructions, supporting statement, and other documentation will be placed into OMB's public docket files, once approved. Requests for additional information or a copy of the collection may be obtained at Regulations.gov or by contacting:

Treasury: Jeffrey C. King, Senior Counsel (Banking and Finance), (202) 622-1978 or PRA@treasury.gov, U.S. Department of the Treasury, 1500 Pennsylvania Avenue NW, Washington, DC 20220.

SUPPLEMENTARY INFORMATION:

Request for Comment on Information Collection Proposal

Treasury invites public comment on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

Comments submitted in response to this notice will be shared between the Agencies. All comments received, including attachments and other supporting materials, are part of the public record and will be included in the submission to the Office of Management and Budget (OMB).

Title: Prohibition on Funding of Unlawful Internet Gambling.

OMB Control Number: 1505-0204.

Type of Review: Extension of a currently approved collection.

General Description of Report: The Unlawful internet Gambling Enforcement Act requires the Treasury and the Federal Reserve Board (the “Agencies”) to prescribe regulations requiring designated payment systems and all participants to identify and block unlawful internet gambling transactions through the establishment of reasonably designated policies and procedures. The Agencies have published a regulation that requires designated payment systems and all participants to establish and implement written policies and procedures. The share of the burden attributable the Treasury is listed below, while the share attributable to the Federal Reserve Board is accounted for under OMB Control No. 7100-0317.

Form Number: None.

Affected Public: Businesses or other for-profit and not-for-profit organizations.

Estimated Number of Respondents: 6,038.

Frequency of Response: Annually.

Estimated Total Number of Annual Responses: 6,038.

Estimated Time per Response: 8.05 hours.

Estimated Total Annual Burden Hours: 48,604.

(Authority: 44 U.S.C. 3501 et seq.)

Dated: February 17, 2022.
Spencer W. Clark,
Treasury PRA Clearance Officer.

[FR Doc. 2022-03835 Filed 2-22-22; 8:45 am]

BILLING CODE 4810-AK-P